DEPARTMENT OF HEALTH AND HUMAN SERVICES

National Institutes of Health

National Institute of Diabetes and Digestive and Kidney Diseases; Amended Notice of Meeting

Notice is hereby given of a change in the meeting of the National Diabetes and Digestive and Kidney Diseases Advisory Council, May 12, 2020, 11:30 a.m. to May 12, 2020, 3:45 p.m., National Institutes of Health, Two Democracy Plaza, 6707 Democracy Boulevard, Bethesda, MD 20892 which was published in the Federal Register on January 29, 2020, 85 FR 5218.

This notice is being amended to change the meeting date, time and location from May 12-13, 2020, 8:30 a.m. to 3:45 p.m., Porter Neuroscience Research Center, Building 35A, Convent Drive, Bethesda, MD 20892 to May 12, 2020, 11:30 a.m. to 3:45 p.m., as a virtual meeting. Any member of the public may submit written comments no later than 15 days after the meeting.

Dated: April 16, 2020.
Miguelina Perez,
Program Analyst, Office of Federal Advisory Committee Policy.

[FR Doc. 2020-08471 Filed 4-21-20; 8:45 am]

BILLING CODE 4140-01-P